DEPARTMENT OF EDUCATION

Smaller Learning Communities Program

AGENCY: Office of Elementary and Secondary Education, Department of Education.

ACTION: Notice of proposed priority, requirements, and selection criteria for fiscal year (FY) 2006 and subsequent years' funds.

SUMMARY: The Deputy Secretary of Education proposes a priority, requirements, and selection criteria under the Smaller Learning Communities (SLC) program. The Deputy Secretary will use the priority, requirements, and selection criteria, in addition to any other previously established priorities and requirements, for a competition using fiscal year (FY) 2006 funds and may use them in later years. We take this action to focus Federal financial assistance on an identified national need. We intend the priority, requirements, and selection criteria to enhance the effectiveness of SLC projects in improving academic achievement and the preparation of students for postsecondary education and careers.

DATES: We must receive your comments on or before April 9, 2007.

ADDRESSES: Address all comments about the proposed priority, requirements, and selection criteria to Gregory Dennis, U.S. Department of Education, 400 Maryland Avenue, SW., FB-6, room 3W243, Washington, DC 20202-6200. If you prefer to send your comments through the Internet, use the following address: smallerlearningcommunities@ed.gov.

You must include the term “SLC Proposed Requirements” in the subject line of your electronic message.

FOR FURTHER INFORMATION CONTACT: Gregory Dennis. Telephone: (202) 205-3784 or via Internet: smallerlearningcommunities@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Invitation to Comment

We invite you to submit comments regarding the proposed priority, requirements, and selection criteria. To ensure that your comments have maximum effect in developing the notice of final priority, requirements, and selection criteria, we urge you to identify clearly the specific proposed priority, requirement, or selection criterion that each comment addresses.

We invite you to assist us in complying with the specific requirements of Executive Order 12866 and its overall requirement of reducing regulatory burden that might result from the proposed priority, requirements, and selection criteria. Please let us know of any further opportunities we should take to reduce potential costs or increase potential benefits while preserving the effective and efficient administration of the program.

During and after the comment period, you may inspect all public comments about the proposed priority, requirements, and selection criteria at the U.S. Department of Education, FB6, room 3W243, 400 Maryland Avenue, SW., Washington, DC 20202 between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for the proposed priority, requirements, and selection criteria. If you want to schedule an appointment for this type of aid, please contact the person listed under FOR FURTHER INFORMATION CONTACT.

General

The SLC program is authorized under Title V, Part D, Subpart 4 of the Elementary and Secondary Education Act of 1965 (ESEA) (20 U.S.C. 7249), as amended by the No Child Left Behind Act of 2001. It awards discretionary grants to local educational agencies (LEAs) to support the restructuring of large public high schools with enrollments of 1,000 or more students into smaller units. SLC structures include freshman academies, multi-grade academies organized around career interests or other themes, “houses” in which small groups of students remain together throughout high school, and autonomous schools-within-a-school. These structural changes are typically complemented by other personalization strategies, such as student advisories, family advocate systems, and mentoring programs. As used in this notice, the terms smaller learning community, large high school, and BIA school have the meanings assigned to them in the notice of final priority, requirements, definitions, and selection criteria (NFP) for this program, published in the Federal Register on April 28, 2005 (70 FR 22233).

Creating a more personalized learning experience for students has been a prominent part of high school improvement efforts in recent years, supported not only by the SLC program but also by States and private foundations. Several recently completed evaluations of SLCs have highlighted the strengths and limitations of these efforts. They have found, generally, that the implementation of SLCs and complementary personalization strategies can increase student attendance, reduce disruptive behavior, and create a more orderly environment for learning. However, these structural changes and personalization strategies, by themselves, do not appear to improve student academic achievement and readiness for postsecondary education and careers.

Student learning gains have been seen only in those schools that also have made considerable changes in curriculum and instruction (Bernstein, et al., 2005; Kahne, Sporte, et al., 2006; Quint, 2006; Rhodes, Smerdon, 2005). Similarly, some large comprehensive high schools that have not implemented SLCs have significantly increased student achievement in reading or mathematics and narrowed achievement gaps by implementing more rigorous courses, providing extra support to struggling students, and systematically using data to improve instruction (ACT, Inc. and the Education Trust, 2005; Billig, Jaime, et al., 2005; National Center for Educational Accountability, 2005; Robinson, et al., 2005).

This evidence suggests that SLCs are most likely to be successful in raising academic achievement and improving other student outcomes if their implementation is integrated closely with improvements in curriculum and instruction. As some reform advocates have argued persuasively, the focus of these efforts should be on achieving what most students and their parents now consider to be the core mission of the American high school: preparing all students to succeed in postsecondary education and careers without need for remediation (Roderick, 2006).

Earning a bachelor's degree or higher is now the goal of an overwhelming majority of high school students, regardless of their race, gender, ethnicity, or family income. The percentage of high school sophomores who say they expect to earn a bachelor's degree or higher has nearly doubled over the last two decades, from 41 percent in 1980 to nearly 79 percent in 2002, with the largest increases occurring among American Indian and Alaskan Native, Hispanic, and low-income students. Another 11 percent of 2002 sophomores said they expected to earn an associate's degree or postsecondary certificate (National Center for Education Statistics, 2006).

Yet too many young people do not receive the academic preparation, guidance, and support they need to achieve these ambitious aspirations. Many students lack a clear understanding of the academic requirements for entrance to postsecondary education, how to apply for postsecondary education, or options for financial aid (Horn and Chen, 2003; Horn and Nunez, 2000; and Kirst and Venezia, 2004). Most importantly, considerable numbers of young people are graduating from high school without the academic foundation needed to succeed in postsecondary education. According to the National Assessment of Educational Progress (NAEP), more than one-third of all high school seniors, and the majority of minority and low-income seniors, scored “below basic” in mathematics in 2000. Just 17 percent scored proficient or higher. Similarly, on the NAEP reading assessment in 2002, only about one-third of 12th graders demonstrated proficient or advanced reading skills, while the reading skills of one-quarter of high school seniors were “below basic.” Fewer than 22 percent of the high school graduates who took the ACT college-entrance examination in 2004 demonstrated readiness to do college-level work in core subjects such as mathematics, English, and science (ACT, Inc., 2005). Consequently, a significant number of students begin their postsecondary education by enrolling in one or more remedial reading, writing, or mathematics courses (NCES, 2004).

Students who plan to enter the workforce immediately after high school, rather than pursue postsecondary education, also need a strong academic foundation. An emerging body of research indicates that the knowledge and skills needed to succeed in postsecondary education are comparable to those that employers expect from their entry-level workers (Achieve, Inc., 2004, 2005; ACT, Inc., 2006). Moreover, most students who decide initially that they do not want a postsecondary education and enter the workforce immediately after high school change their minds and decide within 18 months of high school graduation to pursue postsecondary education (Haimson, Deke, 2003).

For these reasons, we are proposing a priority and selection criteria that are intended to promote the integration of SLC implementation with efforts to improve the preparation of all students for postsecondary education and careers without need for remediation. We also propose other requirements to clarify statutory provisions, facilitate the review of applications, and promote the equitable distribution of limited SLC grant funds.

Discussion of Priority, Requirements, and Selection Criteria

We will announce the final priority, requirements, and selection criteria in a notice in the Federal Register. We will determine the final priority, requirements, and selection criteria after considering responses to this notice and other information available to the Department. This notice does not preclude us from using additional priorities, requirements, definitions, and selection criteria, subject to meeting applicable rulemaking requirements.

Note: This notice does not solicit applications. In any year in which we choose to use this priority, we invite applications through a notice in the Federal Register. When inviting applications we designate the priority as absolute, competitive preference, or invitational.

The effect of each type of priority follows:

Absolute priority: Under an absolute priority we consider only applications that meet the priority (34 CFR 75.105(c)(3)).

Competitive preference priority: Under a competitive preference priority we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priority

Preparing All Students To Succeed in Postsecondary Education and Careers

This proposed priority supports projects that create or expand SLCs that are part of a comprehensive effort to prepare all students to succeed in postsecondary education and careers without need for remediation.

In order to meet this priority an applicant must demonstrate that, using SLC grant funds or other resources, it will:

(1) Provide intensive interventions to assist students who enter high school with reading/language arts or mathematics skills that are significantly below grade level to “catch up” quickly and attain proficiency by the end of 10th grade;

(2) Enroll students in a coherent sequence of rigorous English language arts, mathematics, and science courses that will equip them with the skills and content knowledge needed to succeed in postsecondary education and careers without need for remediation;

(3) Provide tutoring and other academic supports to help students succeed in rigorous academic courses;

(4) Deliver comprehensive guidance and academic advising to students and their parents that include assistance in selecting courses and planning a program of study that will provide the academic preparation needed to succeed in postsecondary education, early and ongoing college awareness and planning activities, and help in identifying and applying for financial aid for postsecondary education; and

(5) Increase opportunities for students to earn postsecondary credit through Advanced Placement courses, International Baccalaureate courses, or dual credit programs.

Application Requirements

Proposed Application Requirements

The Secretary proposes the following application requirements for this SLC competition. These proposed requirements are in addition to the content that all SLC grant applicants must include in their applications as required by the program statute under Title V, Part D, Subpart 4, Section 5441(b) of the ESEA, and the application requirements we established in the NFP for this program, published in the Federal Register on April 28, 2005 (70 FR 22233) in the following areas: Eligibility; School Report Cards; Consortium Applications and Educational Service Agencies; Student Placement; Including All Students; and Evaluation. LEAs, including BIA schools and educational service agencies, applying on behalf of large public high schools, are eligible to apply for a grant. A discussion of each proposed application requirement follows.

1. Types of Grants

We propose awarding implementation grants to applicants to support the creation or expansion of an SLC or SLCs within each targeted high school during the school year in which funds are first awarded. We do not propose funding any planning grants this year.

Grants will be awarded for a period up to 60 months. We propose to require that applicants provide detailed, yearly budget information for the total grant period requested. At the time of the initial award, the Department will provide funds for the first 36 months of the performance period. Funding for the remaining 24 months will be contingent on the availability of funds and each grantee's substantial progress toward accomplishing the goals and objectives of the project as described in its approved application.

Rationale

Since the inception of the SLC program in 2000, the Department has awarded planning grants to more than 350 LEAs. Now, resources, planning tools, and research on SLCs and high school improvement strategies are much more prevalent and accessible for schools and LEAs than was the case at the outset of the SLC program. Therefore, the Department does not see a need to fund planning grants and, instead, intends to focus the SLC program on the actual implementation of projects to create or expand SLCs.

2. Budget Information for Determination of Award

We propose that LEAs may receive, on behalf of a single school, up to $1,750,000, depending upon student enrollment in the school, during the 60-month project period. To ensure that sufficient funds are available to support awards to LEAs of all sizes, and not only the largest LEAs, we propose, as we have in previous years, to limit to 10 the number of schools that an LEA may include in a single application for a grant. LEAs applying on behalf of a group of eligible schools thus could receive up to $17,500,000 per grant.

The following chart provides the ranges of awards per high school size that we are proposing:

SLC Grant Award Ranges
Student enrollment | Award ranges per school
1,000-2,000 Students | $1,000,000-$1,250,000
2,001-3,000 Students | 1,000,000-1,500,000
3,001 and Up | 1,000,000-1,750,000

The actual size of awards would be based on a number of factors, including the scope, quality, and comprehensiveness of the proposed project, and the range of awards indicated in the application.

Applications that request more funds than the maximum amounts specified for any school or for the total grant would not be read as part of the regular application process. However, if, after the Secretary selects applications to be funded, it appears that additional funds remain available, the Secretary may choose to read those additional applications that requested funds exceeding the maximum amounts specified. If the Secretary chooses to fund any of those additional applications, applicants would be required to work with the Department to revise their proposed budgets to fit within the appropriate funding range.

Rationale

In previous SLC competitions, some applicants have requested more funds than the amount that we indicated would be available for a grant. Their applications included activities that could only be implemented if the applicants received a funding amount that exceeded the maximum amount specified in the notice. This strategy put at a competitive disadvantage other applicants that requested funds within the specified funding range and outlined a less extensive set of activities. For this reason, we propose to read initially only those applications that request an amount that does not exceed the maximum amounts specified for the grants.

3. Indirect Costs

We propose to require eligible applicants who propose to use SLC grant funds for indirect costs to include, as part of their applications, a copy of their approved indirect cost agreement.

Rationale

The Department needs a copy of the approved indirect cost agreement to verify the accuracy of the amount of indirect costs for which an applicant is seeking to use SLC funds.

4. Performance Indicators

We propose to require applicants to identify in their application specific performance indicators and annual performance objectives for each of these indicators. Specifically, we propose to require applicants to use the following performance indicators to measure the progress of each school:

(1) The percentage of students who score at or above the proficient level on the reading/language arts and mathematics assessments used by the State to determine whether a school has made adequate yearly progress under part A of Title I of the ESEA, as well as these percentages disaggregated by subject matter and the following subgroups:

(A) Major racial and ethnic groups;

(B) Students with disabilities;

(C) Students with limited English proficiency; and

(D) Economically disadvantaged students.

(2) The school's graduation rate, as defined in the State's approved accountability plan for Part A of Title I of the ESEA; and

(3) The percentage of graduates who enroll in postsecondary education in the semester following high school graduation.

Applicants would be required to include in their applications baseline data for each of these indicators and identify performance objectives for each year of the project period. We further propose to require recipients of grant funds to report annually on the extent to which each school achieves its performance objectives for each indicator during the preceding school year. We propose to require grantees to include in these reports comparable data, if available, for the preceding three school years so that trends in performance will be more apparent.

Rationale

While creating SLCs can appeal to teachers, students, and parents for many reasons, their fundamental purpose is to improve academic achievement and student success after high school. Assistance provided under the SLC program should also support and enhance the efforts of LEAs and schools to fulfill the ambitious goals of the No Child Left Behind Act of 2001.

For these reasons, it is important that projects measure their progress in improving student academic achievement and related outcomes. Two of the indicators we propose to use, student performance on reading/language arts and mathematics assessments and the graduation rate, are the same indicators used by States to measure the progress of LEAs and high schools under Part A of Title I of the ESEA. Performance objectives for these indicators should equal or exceed the annual measurable objectives established by the State in its approved accountability plan for Part A of Title I of the ESEA.

Enrolling in postsecondary education is now a nearly universal aspiration among high school students and their parents. The third indicator we are proposing, entrance into postsecondary education in the semester following high school graduation, would measure the success of LEAs and schools in helping students achieve this goal. Performance objectives for this indicator should exceed the baseline level of performance and give particular emphasis to narrowing any gaps between students in general and economically disadvantaged students, students from major racial and ethnic groups, students with disabilities, and students with limited English proficiency.

5. Required Meetings Sponsored by the Department

Applicants must set aside adequate funds within their proposed budget to send their project director to a two-day project directors' meeting in Washington, DC, in years one and two of the grant, and to send a team of five key staff members to attend a two-day regional institute in year one of the grant. The Department will host these meetings.

Rationale

Convening all project directors at an initial meeting enables Department staff to provide introductory information on grants administration and Department regulations, and other topics of interest to new grantees. The second project directors' meeting is intended to provide project directors an opportunity to take stock of their implementation progress and to share with their peers what they have learned, their success, and any challenges encountered in the first year of implementation. Project directors will have an opportunity to ask questions of one another and consult with technical assistance providers at this second meeting. Regional institutes in year one will provide grantee teams with technical assistance that will be useful in implementing their projects.

Previous Grantees

We propose to allow an LEA to apply only on behalf of a school or schools that will not receive funds through an SLC implementation grant that has a performance period that extends beyond the current fiscal year (September 30, 2007).

Rationale

Schools included in implementation grants that will be active after September 30, 2007 do not need additional assistance. Since the Department has received more applications for SLC grants than it has been able to fund in recent years, we believe that targeting new awards to LEAs that will assist high schools that are not included in grants that will be active after September 30, 2007 would be equitable and make the best use of limited program funds.

Selection Criteria

Proposed Selection Criteria

We propose that the following selection criteria be used to evaluate applications for new grants under this program. We may apply these selection criteria to any SLC competition in the future.

Need for the Project

In determining the need for the proposed project, we will consider the magnitude of the need for the services that will be provided and the activities that will be carried out by the proposed project.

Quality of the Project Design

In determining the quality of the design of the proposed project, we will consider the extent to which—

(1) Teachers, school administrators, parents and community stakeholders support the proposed project and have been and will continue to be involved in its development and implementation;

(2) The applicant has carried out sufficient planning and preparatory activities to enable it to implement the proposed project during the school year in which the grant award will be made;

(3) School administrators, teachers, and other school employees will receive effective, ongoing technical assistance and support in implementing structural and instructional reforms;

(4) The applicant will offer all students a coherent sequence of rigorous English language arts, mathematics, and science courses that will provide students with the knowledge and skills needed to succeed in postsecondary education and careers without need for remediation; and

(5) The proposed project is part of a districtwide strategy for high school redesign and strengthens the district's capacity to develop and implement smaller learning communities and improve student academic achievement as part of that strategy.

Quality of Project Services

In determining the quality of the services to be provided by the proposed project, we will consider the extent to which the proposed project is likely to be effective in—

(1) Creating an environment in which a core group of teachers and other adults within the school know the needs, interests, and aspirations of each student well, closely monitor each student's progress, and provide the academic and other support each student needs to succeed;

(2) Equipping all students with the reading/English language arts, mathematics, and science knowledge and skills they need to succeed in postsecondary education and careers without need for remediation;

(3) Helping students who enter high school with reading/English language arts or mathematics skills that are significantly below grade-level “catch up” quickly and attain proficiency by the end of the 10th grade;

(4) Providing teachers with the professional development, coaching, regular opportunities for collaboration with peers, and other supports needed to implement a rigorous curriculum and provide high-quality instruction;

(5) Increasing the participation of students, particularly low-income students, in Advanced Placement, International Baccalaureate, or dual credit courses; and

(6) Increasing the percentage of students who enter postsecondary education in the semester following high school graduation.

Support for Implementation

In determining the adequacy of the support the applicant will provide for implementation of the proposed project, we will consider the extent to which—

(1) The management plan is likely to achieve the objectives of the proposed project on time and within budget and includes clearly defined responsibilities and detailed timelines and milestones for accomplishing project tasks;

(2) The project director and other key personnel are qualified to carry out their responsibilities, and their time commitments are appropriate and adequate to implement the SLC project effectively;

(3) The applicant will support the proposed project with funds provided under other Federal or State programs and local cash or in-kind resources; and

(4) The requested grant amount and the project costs are sufficient to attain project goals and reasonable in relation to the objectives and design of the project.

Quality of the SLC Project Evaluation

In determining the quality of the proposed project evaluation to be conducted by an independent, third-party evaluator, we consider the extent to which—

(1) The evaluation will provide timely, regular, and useful feedback to the LEA and the participating schools on the success and progress of implementation, and identify areas for needed improvement; and

(2) The independent evaluator is qualified to conduct the evaluation.

Executive Order 12866

This notice of proposed priority, requirements, and selection criteria has been reviewed in accordance with Executive Order 12866. Under the terms of the order, we have assessed the potential costs and benefits of this regulatory action.

The potential costs associated with this notice of proposed priority, requirements, and selection criteria are those resulting from statutory requirements and those we have determined as necessary for administering this program effectively and efficiently.

In assessing the potential costs and benefits—both quantitative and qualitative—of this notice of proposed priority, requirements, definitions, and selection criteria, we have determined that the benefits of the proposed priority, requirements, and selection criteria justify the costs.

We have also determined that this regulatory action does not unduly interfere with State, local, and tribal governments in the exercise of their governmental functions.

Elsewhere in this notice we discuss the potential costs and benefits of the proposed priority, requirements, and selection criteria under the following heading: Discussion of Priority, Requirements, and Selection Criteria.

Paperwork Reduction Act of 1995 (PRA)

Certain sections of the proposed priority, requirements, and selection criteria for the SLC grant program contain changes to information collection requirements already approved by the Office of Management and Budget (OMB) under OMB control number 1810-0676 (1890-0001). We will be publishing a separate notice in the Federal Register requesting comments on these changes.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.215L, Smaller Learning Communities Program.)

Program Authority: 20 U.S.C. 7249.

Dated: March 2, 2007.
Raymond Simon,
Deputy Secretary of Education Delegated the Authority to Perform the Functions of the Assistant Secretary for Elementary and Secondary Education.

[FR Doc. E7-4228 Filed 3-7-07; 8:45 am]

BILLING CODE 4000-01-P